DEPARTMENT OF COMMERCE

International Trade Administration

[C-570-953]

Narrow Woven Ribbons With Woven Selvedge From the People's Republic of China: Preliminary Results of Countervailing Duty Administrative Review and Rescission of Review, in Part; 2022

AGENCY: Enforcement and Compliance, International Trade Administration, Department of Commerce.

SUMMARY: The U.S. Department of Commerce (Commerce) preliminarily determines that certain producers/exporters of narrow woven ribbons with woven selvedge (ribbons) from the People's Republic of China (China) received countervailable subsidies during the period of review (POR) January 1, 2022, through December 31, 2022. In addition, Commerce is rescinding this review, in part, with respect to 136 companies. Interested parties are invited to comment on these preliminary results.

DATES: Applicable June 10, 2024.

FOR FURTHER INFORMATION CONTACT: Robert Copyak, AD/CVD Operations, Office II, Enforcement and Compliance, International Trade Administration, U.S. Department of Commerce, 1401 Constitution Avenue NW, Washington, DC 20230; telephone: (202) 482-3642.

SUPPLEMENTARY INFORMATION:

Background

On November 15, 2023, Commerce published in the Federal Register the notice of initiation of this administrative review of the countervailing duty order on ribbons from China.¹ For a complete description of the events that followed the initiation of this review, see the Preliminary Decision Memorandum. A list of topics discussed in the Preliminary Decision Memorandum is included as appendix I.² The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

¹ See Initiation of Antidumping and Countervailing Duty Administrative Reviews, 88 FR 78298 (November 15, 2023); see also Narrow Woven Ribbons With Woven Selvedge from the People's Republic of China: Countervailing Duty Order, 75 FR 53642 (September 1, 2010) (Order).

² See Memorandum, “Decision Memorandum for the Preliminary Results of the 2022 Administrative Review of the Countervailing Duty Order on Narrow Woven Ribbons with Woven Selvedge from the People's Republic of China,” dated concurrently with, and hereby adopted by, this notice (Preliminary Decision Memorandum).

Scope of the Order

The products covered by the Order are narrow woven ribbons with woven selvedge from China. For a complete description of the scope of the Order, see the Preliminary Decision Memorandum.

Methodology

Commerce is conducting this administrative review in accordance with section 751(a)(1)(A) of the Tariff Act of 1930, as amended (the Act). For each of the subsidy programs found to be countervailable, Commerce preliminarily determines that there is a subsidy (i.e., a financial contribution by an “authority” that gives rise to a benefit to the recipient, and that the subsidy is specific).³ For a full description of the methodology underlying our conclusions, including our including our reliance on adverse facts available (AFA) pursuant to section 776(a) and (b) of the Act, see the Preliminary Decision Memorandum.

³ See sections 771(5)(B) and (D) of the Act regarding financial contribution; section 771(5)(E) of the Act regarding benefit; and section 771(5A) of the Act regarding specificity.

Rescission of Administrative Review, in Part

Pursuant to 19 CFR 351.213(d)(1), Commerce will rescind an administrative review, in whole or in part, if the parties that requested a review withdraw the request within 90 days of the date of publication of the notice of initiation. We received a timely withdrawal of the request for review from Berwick Offray LLC including its wholly-owned subsidiary, Lion Ribbon Company LLC (the petitioner) for 136 companies, pursuant to 19 CFR 351.213(d)(1).⁴ Because the withdrawal request was timely filed and no other parties requested a review of these companies, in accordance with 19 CFR 351.213(d)(1), Commerce is rescinding this administrative review with respect to the companies listed in appendix II.

⁴ See Petitioner's Letter, “Withdrawal of Administrative Review Request as to Certain Companies,” dated February 8, 2024.

Preliminary Results of Review

We preliminarily determine the following net countervailable subsidy rates for the period January 1, 2022, through December 31, 2022:

Producer/exporter | Subsidy rate (percent ad valorem)
Weifang Chenrui Textile Co., Ltd | 165.52
Xiamen Lude Ribbons & Bows Co., Ltd | 165.52

Disclosure and Public Comment

Normally, Commerce discloses its calculations and analysis performed in connection with the preliminary results to interested parties within five days of its public announcement, or if there is no public announcement, within five days of the date of publication of this notice, in accordance with 19 CFR 351.224(b). However, because Commerce preliminarily assigned subsidy rates based on AFA to Weifang Chenrui Textile Co., Ltd. and Xiamen Lude Ribbons & Bows Co., Ltd., there are no calculations to disclose.

Pursuant to 19 CFR 351.309(c), interested parties may submit case briefs to Commerce no later than 30 days after the date of publication of these preliminary results of review.⁵ Rebuttal briefs, limited to issues raised in the case briefs, may be filed not later than five days after the date for filing case briefs.⁶ Interested parties who submit case or rebuttal briefs in this proceeding must submit: (1) a table of contents listing each issue; and (2) a table of authorities.⁷ All briefs must be filed electronically using ACCESS. An electronically filed document must be received successfully in its entirety in ACCESS by 5:00 p.m. Eastern Time on the established deadline.

⁵ See 19 CFR 351.309(c)(1)(ii).

⁶ See 19 CFR 351.309(d); see also Administrative Protective Order, Service, and Other Procedures in Antidumping and Countervailing Duty Proceedings, 88 FR 67069, 67077 (September 29, 2023) (APO and Service Final Rule).

⁷ See 19 CFR 351.309(c)(2) and (d)(2).

As provided under 19 CFR 351.309(c)(2) and (d)(2), in prior proceedings we have encouraged interested parties to provide a public executive summary of their brief that should be limited to five pages total, including footnotes. In this review, we instead request that interested parties provide at the beginning of their briefs a public, executive summary for each issue raised in their briefs.⁸ Further, we request that interested parties limit their public executive summary of each issue to no more than 450 words, not including citations. We intend to use the public executive summaries as the basis of the comment summaries included in the issues and decision memorandum that will accompany the final results in this administrative review. We request that interested parties include footnotes for relevant citations in the public executive summary of each issue. Note that Commerce has amended certain of its requirements pertaining to the service of documents in 19 CFR 351.303(f).⁹

⁸ We use the term “issue” here to describe an argument that Commerce would normally address in a comment of the Issues and Decision Memorandum.

⁹ See APO and Service Final Rule.

Pursuant to 19 CFR 351.310(c), interested parties who wish to request a hearing must submit a written request to the Assistant Secretary for Enforcement and Compliance, filed electronically via ACCESS. Requests should contain: (1) the party's name, address, and telephone number; (2) the number of participants; and (3) a list of issues to be discussed. Issues raised in the hearing will be limited to those raised in the respective case briefs. If a request for a hearing is made, Commerce will inform parties of the scheduled date for the hearing.

Final Results of Review

Unless extended, we intend to issue the final results of this administrative review, which will include the results of our analysis of the issues raised in the case briefs, within 120 days of publication of these preliminary results in the Federal Register, pursuant to section 751(a)(3)(A) of the Act and 19 CFR 351.213(h)(1).

Assessment Rates

In accordance with section 751(a)(2)(C) of the Act, upon issuance of the final results, Commerce will determine, and U.S. Customs and Border Protection (CBP) shall assess, countervailing duties on all appropriate entries covered by this review. We intend to issue instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

For the companies listed in Appendix II for which we are rescinding this review, we will instruct CBP to assess countervailing duties on all appropriate entries at a rate equal to the cash deposit of estimated countervailing duties required at the time of entry, or withdrawal from warehouse, for consumption, during the period January 1, 2022, through December 31, 2022, in accordance with 19 CFR 351.212(c)(l)(i). Commerce intends to issue appropriate assessment instructions directly to CBP no earlier than 35 days after the date of publication of this notice in the Federal Register.

Cash Deposit Requirements

In accordance with section 751(a)(2)(C) of the Act, Commerce also intends, upon publication of the final results, to instruct CBP to collect cash deposits of the estimated countervailing duties in the amounts calculated in the final results of this review for the companies listed above with regard to shipments of subject merchandise entered, or withdrawn from warehouse, for consumption on or after the date of publication of the final results of this review. For all non-reviewed firms, CBP will continue to collect cash deposits of estimated countervailing duties at the all-others rate or the most recent company-specific rate applicable to the company, as appropriate. These cash deposit requirements, when imposed, shall remain in effect until further notice.

Notification to Interested Parties

These preliminary results and notice are issued and published in accordance with sections 751(a)(1) and 777(i)(1) of the Act, and 19 CFR 351.213 and 351.221(b)(4).

Dated: June 3, 2024.
Ryan Majerus,
Deputy Assistant Secretary for Policy and Negotiations, performing the non-exclusive functions and duties of the Assistant Secretary for Enforcement and Compliance.

Appendix I

List of Topics Discussed in the Preliminary Decision Memorandum

I. Summary

II. Background

III. Scope of the Order

IV. Use of Facts Otherwise Available and Application of Adverse Inferences

V. Recommendation

Appendix II

Companies Rescinded From Review

1. Amadeus Textile Ltd.

2. Amsun Industrial Co., Ltd.

3. Apex Ribbon

4. Apex Trimmings (d/b/a Papillon Ribbon & Bow (Canada))

5. Beauty Horn Investment Limited

6. Bestpak Gifts and Crafts Co., Ltd.

7. Billion Trend International Ltd.

8. Changle Huanyu Ribbon Weaving Co., Ltd.

9. Changle Ruixiang Webbing Co., Ltd.

10. Changtai Rongshu Textile Co., Ltd.

11. Cheng Xeng Label Mfg. Co.

12. Complacent Industrial Co., Ltd. (HK)

13. Creative Design Ltd.

14. Dongguan Qaotou Sheng Feng Decoration Factory

15. Dongguan Yi Sheng Decoration Co., Ltd.

16. Dragon Max Weaving & Accessories Company

17. East Sun Gift & Crafts Factory

18. Fasheen Accessories Co. Ltd.

19. Fly Dragon (Guang zhou) Imports & Exports trading Co., Ltd.

20. Fuhua Industrial Co., Ltd.

21. Fujian Rongshu Industry Co., Ltd.

22. Fujian Shi Lian Da Garment Accessories Co., Ltd.

23. Fujian Xin Sheng Da Weaving Ribbons Co., Ltd.

24. Fujian Xinshengda Weaving Ribbons Co., Ltd.

25. Fung Ming Ribbon Ind., Ltd.

26. Goodyear Webbing Products Co., Ltd.

27. Gordon Ribbons & Trimmings Co., Ltd.

28. Guangzhou Complacent Weaving Co., Ltd.

29. Guangzhou Leiyu Trade Co., Ltd.

30. Guangzhou Liman Ribbon Factory

31. Guangzhou Mafolen Ribbons & Bows Ltd.

32. Guangzhou String Textile Accessories Co., Ltd.

33. Hen Hao Trading Co. Ltd.; Taiwan Tulip Ribbons and Braids Co., Ltd.

34. Hubscher Ribbon Corp., Ltd. (d/b/a Hubschercorp)

35. Huian Huida Webbing Co., Ltd.

36. Huizhou Weiyi Gifts Co., Ltd.

37. Huzhou Linghu Tianyi Tape Co., Ltd.

38. Huzhou Lingxian Silk Ribbon Co., Ltd.

39. Huzhou Unifull Label Fabric Co., Ltd.

40. Intercontinental Skyline

41. Jian Chang Ind. Co., Ltd.

42. Jiangyin Lilai Tape Co., Ltd.

43. Jufeng Ribbon Co., Ltd.

44. Kaiping Qifan Weaving Co., Ltd.

45. King Young Enterprises Co., Ltd.

46. King's Pipe Cleaner's Ind. Inc; King's Crafts (China) Ltd; King's Pipe Cleaner's, Ind. Inc.

47. Kinstarlace & Embroidery Co.

48. Kunshan Dah Mei Weaving Co., Ltd.

49. Lace Fashions Industrial Co., Ltd.

50. Linghu Jiacheng Silk Ribbon Co., Ltd.

51. Multicolor

52. Nan Mei Decorative Ribbons Co., Ltd.

53. Ningbo Bofa Co., Ltd.

54. Ningbo Flowering Crafts Co., Ltd.

55. Ningbo Hongshine Decorative Packing Industrial Co., Ltd.; Ningbo Hongrun Craft and Ornament Factory

56. Ningbo Jinfeng Thread & Ribbon Co., Ltd.

57. Ningbo MH Industry Co., Ltd.

58. Ningbo R&D Ind. Company

59. Ningbo Sunshine Import & Export Co., Ltd.

60. Ningbo V.K. Industry and Trading Co., Ltd.

61. Ningbo Wanhe Industry Co., Ltd.

62. Ningbo XWZ Ribbon Manufactory

63. Ningbo Yinzhou Jinfeng Knitting Factory

64. Ningbo Yinzhou Hengcheng Ribbon Factory

65. Pacific Imports

66. Papillon Ribbon & Bow (H.K.) Ltd.

67. Papillon Ribbon & Bow (Shanghai) Ltd.

68. Precious Planet Ribbons & Bows Co., Ltd.

69. PROTEX Co., Ltd.

70. Qingdao Cuifengyuan Industrial and Trading Co., Ltd.

71. Qingdao Haili Lace & Ribbon Co., Ltd.

72. Qingdao Hileaders Co., Ltd.

73. RizeStar Weaving Ribbon Factory

74. Roung Shu Industry Corporation; Cheng Hsing Ribbon Factory

75. Shandong Hileaders Industrial Co., Ltd.

76. Shanghai Dae Textile International Co., Ltd.

77. Shanghai E & T Jawa Import & Export Co., Ltd.

78. ShaoXing Haiyue Gifts Co., Ltd.

79. Sheinq Huong Enterprise Co., Ltd.; Hsien Chan Enterprise Co., Ltd.; Novelty Handicrafts Co., Ltd.

80. Shenq Sin Company Ltd.

81. Shenzhen Bostrip Crafts Co., Ltd.

82. Shenzhen Candour Belt & Tape Co., Ltd.

83. Shenzhen Jinpin Gifts & Crafts Factory

84. Shenzhen Lucky Star Craft Co., Ltd.

85. Shenzhen Weiyi Crafts Technology Co., Ltd.

86. Shenzhen Yibao Gifts Co., Ltd.

87. Shishi Lifa Computer Woven Label Co., Ltd.

88. Shuanglin Label

89. Sinopak Gifts & Crafts Co., Ltd.

90. Stribbons (Guangzhou) Ltd; MNC Stribbons

91. Stribbons (Nanyang) MNC Ltd.

92. String Textile Accessories Co., Ltd.

93. Success Charter Enterprise Limited

94. Sungai Garment Accessories Co., Ltd.

95. Sun Rich (Asia) Limited

96. Supreme Laces Inc.

97. Tianjin Sun Ribbon Company Ltd; Tian Jin Sun Ribbon Company Ltd.

98. Weifang Aofulon Weaving Company Ltd.

99. Weifang Dongfang Ribbon Weaving Co., Ltd.

100. Weifang Jiacheng Webbing Co., Ltd.

101. Weifang Jinqi Textile Co., Ltd.

102. Weifang Yuyuan Textile Co., Ltd.

103. Wenzhou Chuntian Ribbon Manufacturing Co., Ltd.

104. Wenzhou GED Industrial Co., Ltd.

105. Wiefang Shicheng Ribbon Factory

106. Wing Tat Haberdashery Co., Ltd; Wing Hiang Belt Weaving Ltd.

107. Xiamen Bailuu Thread Manufacture Co., Ltd.

108. Xiamen Bethel Ribbon & Trims Co., Ltd.

109. Xiamen Boca Ribbons & Crafts Co., Ltd.

110. Xiamen Daiyuan Ribbons & Printing Co., Ltd.

111. Xiamen Egret Thread Manufacturing Co., Ltd.

112. Xiamen Especial Industrial Co., Ltd.

113. Xiamen LA Ribbons Crafts Co., Ltd.

114. Xiamen Lianglian Ribbons & Bows Co., Ltd.

115. Xiamen Linji Ribbons & Bows Co., Ltd.

116. Xiamen Midi Ribbons & Crafts Co., Ltd.

117. Xiamen Rainbow Gifts & Packs Co., Ltd.

118. Xiamen Sanling Ribbon Packing Co., Ltd.

119. Xiamen ShangPeng Weaving Ribbon Factory

120. Xiamen Sling Ribbon & Bows Co., Ltd.

121. Xiamen Yi He Textile Co., Ltd. (d/b/a Roungshu Ribbon)

122. Yama Ribbons and Bows Co., Ltd.

123. Yangzhou Bestpak Gifts and Crafts Co., Ltd.

124. Yi Jia Trimmings Accessories & Supplies; Dong Guan WSJ Weaving Factory Limited

125. Yiwu Baijin Belt Co., Ltd.

126. Yiwu City Pingzhan Weaving Ribbon Factory

127. Yiwu Dong Ding Ribbons Co., Ltd.

128. Yiwu Ruitai Webbing Factory

129. Yiwu Yunli Tape Co., Ltd.

130. Yu Shin Development Co., Ltd.

131. Yuanhong Garment Accessory Co., Ltd.

132. Yuyao Warp & Weft Tape Weaving Co., Ltd.

133. Zenith Garment Accessories Co., Ltd.

134. Zhejiang Chengxin Weaving Co., Ltd

135. Zhejiang Sanding Weaving Co., Ltd.

136. Zibo All Webbing Co., Ltd.

[FR Doc. 2024-12609 Filed 6-7-24; 8:45 am]

BILLING CODE 3510-DS-P